DEPARTMENT OF TRANSPORTATION

Joint Application of Independence Air, Inc. and Compass Airlines, Inc. for Transfer of Certificate Authority

AGENCY: Department of Transportation.

ACTION: Notice of Order to Show Cause (Order 2006-9-7) Docket OST-2006-24295.

SUMMARY: The Department of Transportation is directing all interested persons to show cause why it should not issue an order finding Compass Airlines, Inc. fit, willing, and able, and transfer to Compass the interstate scheduled passenger certificate authority currently held by Independence Air, Inc.

DATES: Persons wishing to file objections should do so no later than September 25, 2006.

ADDRESSES: Objections and answers to objections should be filed in Docket OST-2006-24295 and addressed to U.S. Department of Transportation, Docket Operations, (M-30, Room PL-401), 400 Seventh Street, SW., Washington, DC 20590, and should be served upon the parties listed in Attachment A to the order.

FOR FURTHER INFORMATION CONTACT: Mr. Damon D. Walker, Air Carrier Fitness Division (X-56, Room 6401), U.S. Department of Transportation, 400 Seventh Street, SW., Washington, DC 20590, (202) 366-9721.

Dated: September 11, 2006.
Michael W. Reynolds,
Acting Assistant Secretary for Aviation and International Affairs.

[FR Doc. E6-15333 Filed 9-14-06; 8:45 am]

BILLING CODE 4910-9X-P